ENVIRONMENTAL PROTECTION AGENCY

40 CFR Part 52

[EPA-R04-OAR-2021-0264; FRL-8980-01-R4]

Air Plan Approval; North Carolina; Mecklenburg Emission Control Standards and Nitrogen Oxides

AGENCY: Environmental Protection Agency (EPA).

ACTION: Proposed rule.

SUMMARY: The Environmental Protection Agency (EPA) is proposing to approve a State Implementation Plan (SIP) revision to the Mecklenburg County portion of the North Carolina SIP, hereinafter referred to as the Mecklenburg Local Implementation Plan (LIP). The revision was submitted by the State of North Carolina, through the North Carolina Division of Air Quality (NCDAQ), on behalf of Mecklenburg County Air Quality (MCAQ) via a letter dated April 24, 2020. The revision includes updates to various emission control standards contained in the Mecklenburg County Air Pollution Control Ordinance (MCAPCO) incorporated into the LIP. EPA is proposing to approve these changes pursuant to the Clean Air Act (CAA or Act).

DATES: Comments must be received on or before August 26, 2024.

ADDRESSES: Submit your comments, identified by Docket ID No. EPA-R04-OAR-2021-0264 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www.epa.gov/dockets/commenting-epa-dockets.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. The telephone number is (404) 562-8085. Mr. Ortiz Borrero can also be reached via electronic mail at ortizborrero.josue@epa.gov.

SUPPLEMENTARY INFORMATION:

I. Background

The original Mecklenburg County LIP was submitted to EPA on June 14, 1990, and EPA approved the plan on May 2, 1991. See 56 FR 20140. Mecklenburg County prepared three submittals to modify the LIP for, among other things, general consistency with the North Carolina SIP.¹ The three submittals were submitted as follows: NCDAQ transmitted the October 25, 2017, submittal to EPA but later withdrew it from review through a letter dated February 15, 2019. On April 24, 2020, NCDAQ resubmitted the October 25, 2017, update to EPA and also submitted the January 21, 2016, and January 14, 2019, updates. Due to an inconsistency with public notice at the local level, these submittals were withdrawn from EPA through a letter dated February 15, 2019. Mecklenburg County corrected this error, and NCDAQ submitted the updates to EPA in a submittal dated April 24, 2020.²

¹ The Mecklenburg County, North Carolina revision that is dated April 24, 2020, and received by EPA on June 19, 2020, is comprised of three previous submittals—one dated January 21, 2016; one dated October 25, 2017; and one dated January 14, 2019.

² EPA notes that the April 24, 2020, submission was received by EPA on June 19, 2020. For clarity, throughout this notice EPA will refer to the June 19, 2020, submission by its cover letter date of April 24, 2020.

II. What action is EPA taking?

The April 24, 2020, submittal includes changes and updates to the following rules to align them more closely with their analogous SIP-approved North Carolina regulations: MCAPCO Rules 2.0502, Purpose; 2.0507, Particulates from Chemical Fertilizer Manufacturing Plants; 2.0508, Particulates from Pulp and Paper Mills; 2.0513, Particulates from Portland Cement Plants; 2.0514, Particulates from Ferrous Jobbing Foundries; 2.0515, Particulates from Miscellaneous Industrial Processes; and 2.0533, Stack Height.³ EPA is proposing to incorporate these rules into the Mecklenburg LIP.

³ EPA has previously taken action on portions of the April 24, 2020, submittal. The April 24, 2020, submittal contains changes to other Mecklenburg LIP-approved rules that are not addressed in this document. EPA will be acting on those rules in separate actions.

1. Rule 2.0502, “Purpose”

The April 24, 2020, revision updates Rule 2.0502, Purpose, under Article 2.0000, Air Pollution and Control Regulations and Procedures, to more closely align the rule with the SIP-approved State rule at 15A NCAC 02D .0502, Purpose. The April 24, 2020, revision corrects a typographical error, removing the “s” from the word “Section.” EPA is proposing to approve Rule 2.0502 because it better aligns the LIP with the SIP and will not interfere with any applicable CAA requirements.

2. Rule 2.0507, “Particulates From Chemical Fertilizer Manufacturing Plants”

The April 24, 2020, revision updates Rule 2.0507, Particulates from Chemical Fertilizer Manufacturing Plants, to more closely align the rule with the SIP-approved State rule at 15A NCAC 02D .0507, Particulates from Chemical Fertilizer Manufacturing Plants. Rule 2.0507 is revised to convert the text emission rates from the current version of the LIP-approved rule into equations for readability, along with a non-substantive phrasing change. EPA is proposing to approve Rule 2.0507 because it better aligns the LIP with the SIP and will not interfere with any applicable CAA requirements.

3. Rule 2.0508, “Particulates From Pulp and Paper Mills”

The April 24, 2020, revision updates Rule 2.0508, which is currently entitled Control of Particulates from Pulp and Paper Mills in the Mecklenburg LIP. The update renames the rule Particulates from Pulp and Paper Mills and increases the stringency of the opacity standards in Paragraph (b) of the rule. The update also includes non-substantive formatting changes. These changes more closely aligns the rule with the SIP-approved State rule at 15A NCAC 02D .0508, Particulates from Pulp and Paper Mills. Rule 2.0508 differs from its State counterpart by starting the second sentence under Paragraph (b) with “However,” and changing the capital “S” in “Six” to lower-case. EPA is proposing to approve Rule 2.0508 because it better aligns the LIP with the SIP and will not interfere with any applicable CAA requirements.

4. Rule 2.0513, “Particulates From Portland Cement Plants”

The April 24, 2020, revision updates Rule 2.0513, which is currently entitled Control of Particulates from Portland Cement Plants in the Mecklenburg LIP. The update names the rule Particulates from Portland Cement Plants and includes non-substantive wording and formatting changes. These changes more closely align the rule with the SIP-approved State rule at 15A NCAC 02D .0513, Particulates from Portland Cement Plants. EPA is proposing to approve Rule 2.0513 because it better aligns the LIP with the SIP and will not interfere with any applicable CAA requirements.

5. Rule 2.0514, “Particulates From Ferrous Jobbing Foundries”

The April 24, 2020, revision updates Rule 2.0514, which is currently entitled Control of Particulates from Ferrous Jobbing Foundries in the Mecklenburg LIP. The update renames the rule Particulates from Ferrous Jobbing Foundries and includes formatting and wording changes. The revised rule also updates the cross-reference to Regulation 2.0515 such that it now refers to Regulation 2.0515(a). These changes more closely align the rule with the SIP-approved State rule at 15A NCAC 02D .0514, Particulates from Ferrous Jobbing Foundries. EPA is proposing to approve Rule 2.0514 because it better aligns the LIP with the SIP and will not interfere with any applicable CAA requirements.

6. Rule 2.0515, “Particulates From Miscellaneous Industrial Processes”

The April 24, 2020, revision updates Rule 2.0515, Particulates from Miscellaneous Industrial Processes, to more closely aligns the rule with the SIP-approved State rule at 15A NCAC 02D .0515, Particulates from Miscellaneous Industrial Processes. The changes to Rule 2.0515 include changes such as converting the text emission rates in Paragraph (a) of the current version of the LIP-approved rule into equations for readability and updating the phrase “process weight” such that it now says “process rate.” EPA is proposing to approve Rule 2.0515 because it better aligns the LIP with the SIP and will not interfere with any applicable CAA requirements.

7. Rule 2.0533, “Stack Height”

The April 24, 2020, revision updates Rule 2.0533, Stack Height, to more closely aligns the rule with the SIP-approved State rule at 15A NCAC 02D .0533, Stack Height. The revised rule re-orders certain provisions, such as the definitions (which are now alphabetical). The revised rule also updates certain cross-references within the rule and includes minor wording changes, such as updating the phrase “reasonable time” to now say “time that is normally required.”

III. Incorporation by Reference

In this document, EPA is proposing to include in a final EPA rule regulatory text that includes incorporation by reference. In accordance with requirements of 1 CFR 51.5, and as discussed in Sections I and II of this preamble, EPA is proposing to incorporate by reference the following revised MCAPCO Rules, with a local effective date of December 15, 2015, into the Mecklenburg LIP: 2.0502, Purpose; 2.0507, Particulates from Chemical Fertilizer Manufacturing Plants; 2.0508, Particulates from Pulp and Paper Mills; 2.0513, Particulates from Portland Cement Plants; 2.0514, Particulates from Ferrous Jobbing Foundries; 2.0515, Particulates from Miscellaneous Industrial Processes; and 2.0533, Stack Height. EPA has made and will continue to make these materials generally available through www.regulations.gov and at the EPA Region 4 office (please contact the person identified in the “For Further Information Contact” section of this preamble for more information).

IV. Proposed Action

EPA is proposing to approve the above-described SIP revision by incorporating the following MCAPCO Rules, with a local effective date of December 15, 2015, into the Mecklenburg LIP: 2.0502, Purpose; 2.0507, Particulates from Chemical Fertilizer Manufacturing Plants; 2.0508, Particulates from Pulp and Paper Mills; 2.0513, Particulates from Portland Cement Plants; 2.0514, Particulates from Ferrous Jobbing Foundries; 2.0515, Particulates from Miscellaneous Industrial Processes; and 2.0533, Stack Height. EPA is proposing to approve these rules into the Mecklenburg LIP because they are consistent with the CAA and its implementing regulations, and because these revisions would not interfere with any applicable requirement concerning attainment and reasonable further progress (as defined in section 171), or any other applicable requirement of the Act.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve State choices, provided that they meet the criteria of the CAA. Accordingly, this proposed action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

NCDAQ did not evaluate EJ considerations as part of its SIP submittal; the CAA and applicable implementing regulations neither prohibit nor require such an evaluation. EPA did not perform an EJ analysis and did not consider EJ in this proposed action. Due to the nature of the action being proposed here, this proposed action is expected to have a neutral to positive impact on the air quality of the affected area. Consideration of EJ is not required as part of this proposed action, and there is no information in the record inconsistent with the stated goal of E.O. 12898 of achieving EJ for people of color, low-income populations, and Indigenous peoples.

List of Subjects in 40 CFR Part 52

Environmental protection, Air pollution control, Incorporation by reference, Nitrogen dioxide, Ozone, Particulate matter, Reporting and recordkeeping requirements.

Authority: 42 U.S.C. 7401 et seq.

Dated: July 18, 2024.
Jeaneanne Gettle,
Acting Regional Administrator, Region 4.

[FR Doc. 2024-16251 Filed 7-24-24; 8:45 am]

BILLING CODE 6560-50-P